DEPARTMENT OF TRANSPORTATION

Federal Aviation Administration

14 CFR Part 39

[Docket No. 2003-NE-48-AD; Amendment 39-13669; AD 2004-12-10]

RIN 2120-AA64

Airworthiness Directives; Hamilton Sundstrand Corporation (Formerly Hamilton Standard Division) Model 568F Propellers

AGENCY: Federal Aviation Administration (FAA), DOT.

ACTION: Final rule.

SUMMARY: The FAA is adopting a new airworthiness directive (AD) for certain serial-numbered propeller blades installed in Hamilton Sundstrand Corporation (formerly Hamilton Standard Division) 568F propellers. This AD requires replacement of propeller blades, part numbers (P/Ns) R815505-3 and R815505-4 that have a serial number (SN) of FR1699 to FR20021010, with serviceable blades. This AD results from reports of these composite propeller blades found at inspection, with random areas of missing adhesive under the compression wrap, which exposed the steel tulip part of the blade. We are issuing this AD to prevent propeller blade failure due to corrosion-induced fatigue, which could result in blade separation and possible loss of airplane control.

DATES: This AD becomes effective July 19, 2004.

ADDRESSES: You can get the service information identified in this AD from Hamilton Sundstrand, A United Technologies Company, Publications Manager, Mail Stop 2AM-EE50, One Hamilton Road, Windsor Locks, CT 06096.

You may examine the AD docket, at the FAA, New England Region, Office of the Regional Counsel, 12 New England Executive Park, Burlington, MA.

FOR FURTHER INFORMATION CONTACT: Frank Walsh, Aerospace Engineer, Boston Aircraft Certification Office, FAA, Engine and Propeller Directorate, 12 New England Executive Park, Burlington, MA 01803-5299; telephone (781) 238-7158; fax (781) 238-7170.

SUPPLEMENTARY INFORMATION: The FAA proposed to amend 14 CFR Part 39 with a proposed airworthiness directive (AD). The proposed AD applies to certain serial-numbered propeller blades installed in Hamilton Sundstrand Corporation (formerly Hamilton Standard Division) 568F propellers. We published the proposed AD in the Federal Register on December 2, 2003 (68 FR 67385). That action proposed to require replacement of propeller blades, P/Ns R815505-3 and R815505-4 that have a SN of FR1699 to FR20021010, with serviceable blades.

Examining the AD Docket

You may examine the AD Docket (including any comments and service information), by appointment, between 8 a.m. and 4:30 p.m. Monday through Friday, except Federal holidays. See ADDRESSES for the location.

Comments

We provided the public the opportunity to participate in the development of this AD. We have considered the comment received.

One commenter requests that the Cost of Compliance statement be clarified to indicate that the blade removal cost is for AD compliance only. The commenter has concerns regarding potential liabilities for the worldwide fleet if the AD does not distinguish between the removals for normally scheduled maintenance and unscheduled removals for AD compliance.

The FAA agrees in part. We have clarified the Cost of Compliance statement in the AD to reflect removals for this AD. We do not agree with including worldwide costs in this AD because worldwide costs are not within the scope of the FAA authority.

Conclusion

We have carefully reviewed the available data, including the comment received, and determined that air safety and the public interest require adopting the AD with the changes described previously. We have determined that these changes will neither increase the economic burden on any operator nor increase the scope of the AD.

Costs of Compliance

We estimate that 24 Hamilton Sundstrand Corporation 568F propellers with suspect blades installed on airplanes of U.S. registry would be affected by this AD. We estimate it will take about 4 work hours per propeller to remove and replace suspect blades, and that the average labor rate is $65 per work hour. Based on these figures, we estimate the total labor cost of the AD to U.S. operators to be $6,240.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-NE-48-AD” in your request.

List of Subjects in 14 CFR Part 39

Air transportation, Aircraft, Aviation safety, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2004-12-10 Hamilton Sundstrand Corporation (formerly Hamilton Standard Division): Amendment 39-13669. Docket No. 2003-NE-48-AD.

Effective Date

(a) This AD becomes effective July 19, 2004.

Affected ADs

(b) None.

Applicability

(c) This AD applies to Hamilton Sundstrand Corporation (formerly Hamilton Standard Division) 568F propellers with propeller blades, part numbers (P/Ns) R815505-3 and R815505-4, serial numbers (SNs) FR1699 through FR2625 inclusive (877 blades), and SNs FR20010610 through FR20021010 inclusive (713 blades), installed. These composite propeller blades are installed on, but not limited to, Aerospatiale ATR42-400, ATR42-500, ATR72-212, and ATR72-500 airplanes.

Unsafe Condition

(d) This AD results from reports of propeller blades found at inspection, with random areas of missing adhesive under the compression wrap, which exposed the steel tulip part of the blade. We are issuing this AD to prevent propeller blade failure due to corrosion-induced fatigue, which could result in blade separation and possible loss of airplane control.

Compliance

(e) You are responsible for having the actions required by this AD performed within the compliance times specified unless the actions have already been done.

Removal From Service of Affected Propeller Blades

(f) Remove propeller blades, P/Ns R815505-3 and R815505-4 from service as follows:

(1) Blades listed by SN in the following Table 1 of this AD must be removed no later than the date listed in Table 1 of this AD. See Table 2 of this AD for blade SNs that are excluded from the compliance times specified in Table 1 of this AD.

(2) Remove the blades that are listed by SN in Table 2 of this AD no later than December 31, 2007.

(3) In some instances, an “RT” reference immediately follows the numeric portion of the serial number on the blade. For purposes of this AD, the “RT” reference has been omitted when specifying affected serial numbers.

Table 1.—Propeller Blade Removal Schedule
For propeller blades SNs: | Remove propeller blades from service for rework, no later than:
FR1699 through FR1765 | December 31, 2003.
FR1766 through FR1776 | March 31, 2004.
FR1777 through FR1855 | June 30, 2004.
FR1856 through FR1956 | September 30, 2004.
FR1957 through FR2132 | December 31, 2004.
FR2133 through FR2230 | March 31, 2005.
FR2231 through FR2315 | June 30, 2005.
FR2316 through FR2390 | September 30, 2005.
FR2391 through FR2433 | December 31, 2005.
FR2434 through FR2553 | March 31, 2006.
FR2554 through FR2625 | June 30, 2006.
FR20010610 through FR20010729 | June 30, 2006
FR20010730 through FR20011018 | September 30, 2006.
FR20011019 through FR20011218 | December 31, 2006.
FR20011219 through FR20020511 | March 31, 2007.
FR20020512 through FR20020757 | June 30, 2007.
FR20020758 through FR20020842 | September 30, 2007.
FR20020843 through FR20021010 | December 31, 2007.

Table 2.—Blade SNs Excluded From Table 1
FR1720 | FR1887 | FR1962 | FR2163
FR1740 | FR1888 | FR1963 | FR2164
FR1742 | FR1889 | FR2013 | FR2165
FR1752 | FR1892 | FR2022 | FR2166
FR1777 | FR1893 | FR2032 | FR2167
FR1791 | FR1927 | FR2037 | FR2168
FR1796 | FR1928 | FR2038 | FR2173
FR1841 | FR1929 | FR2039 | FR2177
FR1843 | FR1930 | FR2047 | FR2179
FR1858 | FR1931 | FR2058 | FR2180
FR1860 | FR1932 | FR2059 | FR2183
FR1865 | FR1933 | FR2060 | FR2204
FR1869 | FR1934 | FR2063 | FR2205
FR1871 | FR1935 | FR2064 | FR2206
FR1872 | FR1936 | FR2067 | FR2207
FR1873 | FR1937 | FR2068 | FR2208
FR1874 | FR1938 | FR2099 | FR2233
FR1875 | FR1942 | FR2108 | FR2234
FR1877 | FR1943 | FR2134 | FR2467
FR1878 | FR1957 | FR2135 | FR20010626
FR1879 | FR1960 | FR2136 | FR20010936
FR1880 | FR1961 | FR2137 | FR20011218

Installation of Propeller Blades that have a SN Listed in Table 1 or Table 2 of this AD

(g) After the effective date of this AD, do not install any blade that has P/N R815505-3 or R815505-4 and SN listed in Table 1 or Table 2 of this AD, and that has exceeded the date for replacement.

Alternative Methods of Compliance (AMOCs)

(h) The Manager, Boston Aircraft Certification Office, has the authority to approve alternative methods of compliance for this AD if requested using the procedures found in 14 CFR 39.19.

Material Incorporated by Reference

(i) None.

Related Information

(j) Hamilton Sundstrand Service Bulletin No. 568F-61-A45, Revision 1, dated October 7, 2003, provides information to rework and remark the affected blades for return to service.

Issued in Burlington, Massachusetts, on June 1, 2004.
Francis A. Favara,
Acting Manager, Engine and Propeller Directorate, Aircraft Certification Service.

[FR Doc. 04-13145 Filed 6-10-04; 8:45 am]

BILLING CODE 4910-13-P